POSTAL SERVICE

39 CFR Part 111

Signature Confirmation Service: Elimination of Signature Waiver Option

AGENCY: Postal Service.

ACTION: Final rule.

SUMMARY: This rule changes the Domestic Mail Manual (DMM) to eliminate the signature waiver option for Signature Confirmation service under DMM S919.1.10. The Postal Service is making this change because the signature waiver option is no longer necessary.

EFFECTIVE DATE: February 1, 2005.

FOR FURTHER INFORMATION CONTACT: Donald Lagasse, 202-268-7269, Donald.T.Lagasse@usps.gov.

SUPPLEMENTARY INFORMATION: In a proposed rule published in the Federal Register on September 2, 2004 (69 FR 53665), the Postal Service proposed an amendment to Domestic Mail Manual (DMM) standards eliminating the signature waiver option for Signature Confirmation service. The Postal Service adopts the proposal as described below.

Signature Confirmation service provides Postal Service customers with information about the date and time a mailpiece was delivered and, if delivery was attempted but not successful, the date and time of the delivery attempt. A delivery record, including the recipient's signature, is maintained by the Postal Service and is available to the customer via fax, e-mail, or mail, upon request. No acceptance record is kept at the office of mailing.

Signature Confirmation service currently includes a signature waiver option that allows the sender to waive the signature requirement and accept the Postal Service delivery employee's signature, date, and time of delivery as proof of delivery. If a mailer selects the signature waiver option, the mailer is provided only with the date and time of delivery in the delivery record. The signature waiver option is not available when Signature Confirmation service is combined with other special services.

Signature waiver was requested initially by Delivery Confirmation service mailers who agreed to participate in testing the Signature Confirmation service but did not want to inconvenience their customers by requiring them to sign for their items. Now that Signature Confirmation service is fully implemented and widely recognized, the signature waiver feature is no longer necessary.

Summary of Comments

The Postal Service did not receive any comments in response to this proposal. Therefore, the Postal Service will eliminate the signature waiver option for Signature Confirmation service as of February 1, 2005. Customers who do not need to obtain a signature but wish to know the date and time that their mailpiece was delivered can do so using Delivery Confirmation service.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

S SPECIAL SERVICES

* * * * *

S900 Special Postal Services

* * * * *

S910 Security and Accountability

* * * * *

S919 Signature Confirmation

1.0 BASIC INFORMATION

* * * * *

[Delete 1.10, Signature Waiver, in its entirety.]

* * * * *

2.0 LABELS

* * * * *

Exhibit 2.1a Form 153

BILLING CODE 7710-12-P

BILLING CODE 7710-12-P

An appropriate amendment to 39 CFR part 111 will be published to reflect these changes.

Neva Watson,
Attorney, Legislative.

[FR Doc. 05-135 Filed 1-6-05; 8:45 am]

BILLING CODE 7710-12-C